DEPARTMENT OF VETERANS AFFAIRS

[OMB Control No. 2900-0265]

Agency Information Collection Activity Under OMB Review: Personalized Career Planning and Guidance Application

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0265”.

FOR FURTHER INFORMATION CONTACT: Maribel Aponte, Office of Enterprise and Integration, Data Governance Analytics (008), 1717 H Street NW, Washington, DC 20006, (202) 266-4688 or email maribel.aponte@va.gov. Please refer to “OMB Control No. 2900-0265” in any correspondence.

SUPPLEMENTARY INFORMATION: Authority: 38 U.S.C. 3697A.

Title: Personalized Career Planning and Guidance, VA Form 28-8832.

OMB Control Number: 2900-0265.

Type of Review: Reinstatement of a previously approved collection.

Abstract: A Veteran, Service member, or dependent may use VAF 28-8832 to apply for Personalized Career Planning and Guidance (PCPG) benefits and the information on the form assists program staff to determine a claimant's eligibility to PCPG benefits. Without the structured questions on this form, the application process could be delayed, particularly in instances where incomplete information is submitted under 38 U.S.C. 501(a).

An agency may not conduct or sponsor, and a person is not required to respond to a collection of information unless it displays a currently valid OMB control number. The Federal Register Notice with a 60-day comment period soliciting comments on this collection of information was published at 86 FR 29 on February 16, 2021, page 9572.

Affected Public: Individuals or Households.

Estimated Annual Burden: 2,750 hours.

Estimated Average Burden per Respondent: 15 minutes.

Frequency of Response: One time.

Estimated Number of Respondents: 11,000.

By direction of the Secretary.
Dorothy Glasgow,
VA PRA Clearance Officer (Alt), Office of Enterprise and Integration, Data Governance Analytics, Department of Veterans Affairs.

[FR Doc. 2021-08516 Filed 4-22-21; 8:45 am]

BILLING CODE 8320-01-P